DEPARTMENT OF ENERGY

Federal Energy Regulatory Commission

Notice of Scoping Meetings and Site Visit, and Soliciting Scoping Comments

March 4, 2004.

Take notice that the following hydroelectric application has been filed with the Commission and is available for public inspection:

a. Type of Application: New major license.

b. Project No.: 2107-016.

c. Date Filed: December 16, 2003.

d. Applicant: Pacific Gas and Electric Company (PG&E).

e. Name of Project: Poe Project.

f. Location: On the North Fork Feather River in Butte County, near Pulga, California. The project includes 144 acres of lands of the Plumas National Forest.

g. Filed Pursuant to: Federal Power Act, 16 U.S.C. 791(a)-825(r).

h. Applicant Contact: Mr. Tom Jereb, Project Manager, Hydro Generation Department, Pacific Gas and Electric Company, P.O. Box 770000 (N11C), San Francisco, CA 94177, (415) 973-9320.

i. FERC Contact: John Mudre, (202) 502-8902 or john.mudre@ferc.gov.

j. Deadline for Filing Scoping Comments: May 3, 2004.

All documents (original and eight copies) should be filed with: Magalie R. Salas, Secretary, Federal Energy Regulatory Commission, 888 First Street, NE., Washington, DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The Poe Project consists of: (1) The 400-foot-long, 60-foot-tall Poe Diversion Dam, including four 50-foot-wide by 41-foot-high radial flood gates, a 20-foot-wide by 7-foot-high small radial gate, and a small skimmer gate that is no longer used; (2) the 53-acre Poe Reservoir; (3) a concrete intake structure located on the shore of Poe Reservoir; (4) a pressure tunnel about 19 feet in diameter with a total length of about 33,000 feet; (5) a differential surge chamber located near the downstream end of the tunnel; (6) a steel underground penstock about 1,000 feet in length and about 14 feet in diameter; (7) a reinforced concrete powerhouse, 175-feet-long by 114-feet-wide, with two vertical-shaft Francis-type turbines rated at 76,000 horsepower connected to vertical-shaft synchronous generators rated at 79,350 kVA with a total installed capacity of 143 MW and an average annual generation of 584 gigawatt hours; (8) the 370-foot-long, 61-foot-tall, concrete gravity Big Bend Dam; (9) the 42-acre Poe Afterbay Reservoir; and (10) related facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process: The Commission intends to prepare an Environmental Assessment (EA) on the project in accordance with the National Environmental Policy Act. The EA will consider both site-specific and cumulative environmental impacts and reasonable alternatives to the proposed action.

Scoping Meetings: FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Public Scoping Meeting

Date: Wednesday March 31, 2004.

Time: 7:30 p.m.

Place: U.S. Forest Service District Office.

Address: 875 Mitchell Avenue, Oroville, CA.

Agency Scoping Meeting

Date: Thursday April 1, 2004.

Time: 10 a.m.

Place: U.S. Forest Service District Office.

Address: 875 Mitchell Avenue, Oroville, CA.

Copies of the Scoping Document (SD1) outlining the subject areas to be addressed in the EA are being distributed to the parties on the Commission's mailing list under separate cover. Copies of the SD1 will be available at the scoping meeting or may be viewed on the Web at http://www.ferc.gov using the “eLibrary” link (see item m above).

Site Visit

The Applicant and FERC staff will conduct a project site visit beginning at 9:30 a.m. on Wednesday, March 31, 2004. All interested individuals, organizations, and agencies are invited to attend. All participants should meet at the parking area at the Poe Dam on Route 70, approximately 25 miles northeast of Oroville. All participants are responsible for their own transportation to the site. Please note that, at present, the county road to the powerhouse is closed due to a slide, and access is possible only down a steep four-wheel-drive trail. Improvements may be made prior to the site visit. Also note that access to the Big Bend dam requires a 45 minute hike of moderate-to-strenuous exertion. Anyone with questions about the site visit or powerhouse access should contact Mr. Tom Jereb of PG&E at 415-973-9320.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. E4-511 Filed 3-10-04; 8:45 am]

BILLING CODE 6717-01-P